DEPARTMENT OF TRANSPORTATION

Federal Aviation Administration

Seventieth RTCA SC-135 Environmental Testing Plenary

AGENCY: Federal Aviation Administration (FAA), U.S. Department of Transportation (DOT).

ACTION: Seventieth RTCA SC-135 Environmental Testing Plenary.

SUMMARY: The FAA is issuing this notice to advise the public of a meeting of Seventieth RTCA SC-135 Environmental Testing Plenary.

DATES: The meeting will be held August 11, 2017, 10:00 a.m.-12:00 p.m.

ADDRESSES: The meeting will be held as a virtual meeting hosted at: RTCA Headquarters, 1150 18th Street NW., Suite 910, Washington, DC 20036.

FOR FURTHER INFORMATION CONTACT: Rebecca Morrison at rmorrison@rtca.org or 202-330-0654, or The RTCA Secretariat, 1150 18th Street NW., Suite 910, Washington, DC 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of the Seventieth RTCA SC-135 Environmental Testing Plenary. The agenda will include the following:

August 11, 2017, 10:00 a.m.-12:00 p.m.

(1) Chairmen's Opening Remarks, Introductions

(2) Approval of Summary of the Sixty-Ninetieth Meeting

(3) Review and Approve Proposed ISRA With SC-228

(4) Review and Approve Changes to the Terms of Reference for SC-135 to Support ISRA

(5) New/Unfinished Business

(6) Review Date for Next SC-135 Meeting

(7) Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on July 20, 2017.
Mohannad Dawoud,
Management & Program Analyst, Partnership Contracts Branch, ANG-A17, NextGen, Procurement Services Division, Federal Aviation Administration.

[FR Doc. 2017-15598 Filed 7-25-17; 8:45 am]

BILLING CODE 4910-13-P